Proclamation 8514 of April 30, 2010

National Day of Prayer, 2010

By the President of the United States of America

A Proclamation

Throughout our history, whether in times of great joy and thanksgiving, or in times of great challenge and uncertainty, Americans have turned to prayer. In prayer, we have expressed gratitude and humility, sought guidance and forgiveness, and received inspiration and assistance, both in good times and in bad.

On this day, let us give thanks for the many blessings God has bestowed upon our Nation. Let us rejoice for the blessing of freedom both to believe and to live our beliefs, and for the many other freedoms and opportunities that bring us together as one Nation. Let us ask for wisdom, compassion, and discernment of justice as we address the great challenges of our time.

We are blessed to live in a Nation that counts freedom of conscience and free exercise of religion among its most fundamental principles, thereby ensuring that all people of goodwill may hold and practice their beliefs according to the dictates of their consciences. Prayer has been a sustaining way for many Americans of diverse faiths to express their most cherished beliefs, and thus we have long deemed it fitting and proper to publicly recognize the importance of prayer on this day across the Nation.

Let us remember in our thoughts and prayers those suffering from natural disasters in Haiti, Chile, and elsewhere, and the people from those countries and from around the world who have worked tirelessly and selflessly to render aid. Let us pray for the families of the West Virginia miners, and the people of Poland who so recently and unexpectedly lost many of their beloved leaders. Let us pray for the safety and success of those who have left home to serve in our Armed Forces, putting their lives at risk in order to make the world a safer place. As we remember them, let us not forget their families and the substantial sacrifices that they make every day. Let us remember the unsung heroes who struggle to build their communities, raise their families, and help their neighbors, for they are the wellspring of our greatness. Finally, let us remember in our thoughts and prayers those people everywhere who join us in the aspiration for a world that is just, peaceful, free, and respectful of the dignity of every human being.

NOW, THEREFORE, I, BARACK OBAMA, President of the United States of America, by virtue of the authority vested in me by the Constitution and laws of the United States of America, do hereby proclaim May 6, 2010, as a National Day of Prayer. I call upon the citizens of our Nation to pray, or otherwise give thanks, in accordance with their own faiths and consciences, for our many freedoms and blessings, and I invite all people of faith to join me in asking for God’s continued guidance, grace, and protection as we meet the challenges before us.

IN WITNESS WHEREOF, I have hereunto set my hand this thirtieth day of April, in the year of our Lord two thousand ten, and of the Independence of the United States of America the two hundred and thirty-fourth.

[FR Doc. 2010-11014

Filed 5-6-10; 8:45 am]

Billing code 3195-W0-P